DEPARTMENT OF HOMELAND SECURITY

Federal Emergency Management Agency

[Docket ID: FEMA-2016-0005; OMB No. 1660-0082]

Agency Information Collection Activities: Proposed Collection; Comment Request; Application for Community Disaster Loan Cancellation

AGENCY: Federal Emergency Management Agency, DHS.

ACTION: Notice.

SUMMARY: The Federal Emergency Management Agency, as part of its continuing effort to reduce paperwork and respondent burden, invites the general public and other Federal agencies to take this opportunity to comment on an extension, without change, of a currently approved information collection. In accordance with the Paperwork Reduction Act of 1995, this notice seeks comments concerning the application for loan cancellation under the Community Disaster Loan Program.

DATES: Comments must be submitted on or before April 19, 2016.

ADDRESSES: To avoid duplicate submissions to the docket, please use only one of the following means to submit comments:

(1) Online. Submit comments at www.regulations.gov under Docket ID FEMA- 2016-0005. Follow the instructions for submitting comments.

(2) Mail. Submit written comments to Docket Manager, Office of Chief Counsel, DHS/FEMA, 500 C Street SW., 8NE, Washington, DC 20472-3100.

All submissions received must include the agency name and Docket ID. Regardless of the method used for submitting comments or material, all submissions will be posted, without change, to the Federal eRulemaking Portal at http://www.regulations.gov, and will include any personal information you provide. Therefore, submitting this information makes it public. You may wish to read the Privacy Act notice that is available via the link in the footer of www.regulations.gov.

FOR FURTHER INFORMATION CONTACT: Martha Polanco, Assistant Program Manager, Federal Emergency Management Agency, Public Assistance Division, at 202-701-4023. You may contact the Records Management Division for copies of the proposed collection of information at email address: FEMA-Information-Collections-Management@fema.dhs.gov.

SUPPLEMENTARY INFORMATION: The Community Disaster Loan (CDL) Program is authorized by section 417 of the Robert T. Stafford Disaster Relief and Emergency Assistance Act, Public Law 93-288, as amended, 42 U.S.C. 5184, and implementing regulations at 44 CFR subpart K. The Assistant Administrator may make a CDL to any local government which has suffered a substantial loss of tax or other revenues as a result of a major disaster or emergency and which demonstrates a need for Federal financial assistance in order to perform its governmental functions. FEMA shall cancel repayment of all or part of a CDL to the extent that the Assistant Administrator for the Disaster Assistance Directorate determines that revenues of the local government during the full three fiscal year period following the disaster are insufficient, as a result of the disaster, to meet the operating budget for the local government, including additional unreimbursed disaster-related expenses for a municipal operating character.

Collection of Information

Title: Application for Community Disaster Loan Cancellation.

Type of Information Collection: Extension, without change, of a currently approved information collection.

OMB Number: 1660-0082.

FEMA Form: FEMA Form 009-0-15, Application for Loan Cancellation.

Abstract: The loan cancellation form for the CDL Program provides local governments that have suffered substantial loss of tax or other revenues as a result of a major disaster or emergency and have not recovered financially during the third fiscal year post-disaster the opportunity to request cancellation of their loan. The loan cancellation must be justified on the basis of need and actual expenses.

Affected Public: State, Local or Tribal Government.

Number of Respondents: 81.

Number of Responses: 81.

Estimated Total Annual Burden Hours: 81 hours.

Estimated Cost: The estimated annual cost to respondents for the hour burden is $3,947.13. There are no annual costs to respondents' operations and maintenance costs for technical services. There are no annual start-up or capital costs. The cost to the Federal Government is $12,355.11.

Comments

Comments may be submitted as indicated in the ADDRESSES caption above. Comments are solicited to (a) evaluate whether the proposed data collection is necessary for the proper performance of the agency, including whether the information shall have practical utility; (b) evaluate the accuracy of the agency's estimate of the burden of the proposed collection of information, including the validity of the methodology and assumptions used; (c) enhance the quality, utility, and clarity of the information to be collected; and (d) minimize the burden of the collection of information on those who are to respond, including through the use of appropriate automated, electronic, mechanical, or other technological collection techniques or other forms of information technology, e.g., permitting electronic submission of responses.

Dated: February 12, 2016.
Richard W. Mattison,
Records Management Program Chief, Mission Support, Federal Emergency Management Agency, Department of Homeland Security.

[FR Doc. 2016-03454 Filed 2-18-16; 8:45 am]

BILLING CODE 9111-23-P